DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 98 FR 30106-30708, dated May 20, 2020) is amended to reflect reorganizations of the Human Resources Office and the Office of Safety, Security and Asset Management, Centers for Disease Control and Prevention.

Section C-B, Organization and Functions, is hereby amended as follows:

Delete in its entirety the titles and the mission and function statements for the Human Resources Office (CAJQ), and insert the following:

Human Resources Office (CAJQ). (1) Provides leadership, policy formation, oversight, guidance, service, and advisory support and assistance to the Centers for Disease Control and Prevention (CDC) and the Agency for Toxic Substances and Disease Registry (ATSDR); (2) collaborates as appropriate, with the CDC Office of the Director (OD), Centers/Institute/Offices (CIOs), domestic and international agencies and organizations; and provides a focus for short- and long-term planning within the Human Resource Office (HRO); (3) develops and administers human capital and human resource management policies; (4) serves as the business steward for all CDC developed human capital and human resources management systems and applications; (5) develops, maintains, and supports information systems to conduct personnel activities and provide timely information and analyses of personnel and staffing to management and employees; (6) conducts and coordinates human resources management for civil service and Commissioned Corps personnel; (7) manages the administration of fellowship programs; (8) conducts recruitment, special emphasis, staffing, position classification, position management, pay and leave administration, work-life programs, performance management, employee training and development, and employee and labor relations programs; (9) maintains personnel records and reports, and processes personnel actions and documents; (10) administers the federal life and health insurance programs; (11) administers employee recognition, suggestion, and incentive awards programs; (12) furnishes advice and assistance in the processing of workers compensation claims; (13) interprets standards of conduct regulations, reviews financial disclosure reports, and offers ethics training and counseling services to CDC/ATSDR employees; (14) maintains liaison with the Department of Health and Human Services (HHS) and the Office of Personnel Management (OPM) on human resources management, policy, compliance and execution of the Human Capital Assessment and Accountability Framework; (15) conducts organizational assessments to determine compliance with human capital policies, guidance, regulatory and statutory requirements of federal human capital and resource management programs and initiatives; (16) plans, directs, and manages CDC/ATSDR-wide training programs, monitors compliance with mandatory training requirements, and maximizes economies of scale through systematic planning and evaluation of agency-wide training initiatives to assist employees in achieving required competencies; (17) assists in the definition and analysis of training needs and develops and evaluates instructional products designed to meet those needs; (18) develops, designs, and implements a comprehensive leadership and career management program for all occupational series throughout CDC/ATSDR; (19) provides technical assistance in organizational development, career management, employee development, and training; (20) collaborates and works with partners, internally and externally, to develop workforce goals and a strategic vision for the public health workforce; (21) provides support for succession planning, forecasting services, and environmental scanning to ascertain both current and future public health workforce needs; (22) administers and maintains the customer service help desk; (23) coordinates with CIOs to in-process FTEs and non-FTEs requiring access to CDC facilities and systems; and (24) processes FTE and non-FTE separation and out-processing requests.

Office of the Director (CAJQ1). (1) Provides leadership and overall direction for HRO; (2) develops goals and objectives, and provides leadership, policy formation, oversight, and guidance in program planning and development; (3) plans, coordinates, and develops strategic plans for HRO; (4) develops and administers human capital and human resource management policies and procedures; (5) coordinates all program reviews; (6) provides technical assistance and consultation in the development of proposed legislation, Congressional testimony, and briefing materials; (7) establishes performance metrics and coordinates quarterly reviews to ascertain status on meeting of the metrics; (8) coordinates budget formulation, negotiation, and execution of financial resources; (9) identifies relevant scanning/benchmarking on workforce and career development processes, services and products; (10) provides leadership and guidance on new developments and national trends for the public health workforce; (11) establishes and oversees policies governing human capital and human resources management, and works collaboratively within CDC/ATSDR and other components in planning, developing and implementing policies; (12) develops strategic plans for information technology and information systems required to support human capital and human resources management information requirements; (13) serves as the business steward for CDC/ATSDR-wide human capital and human resources administrative systems and advocates and supports the commitment of resources to application development; (14) coordinates human resource (HR) information resource management activities with the Office of the Chief Information Office and the related governance groups; (15) coordinates management information systems and analyses of data for improved utilization of resources; (16) serves as a liaison with HHS on the utilization and deployment of centralized HHS human capital and human resource management systems and applications; (17) applies standards of conduct regulations, reviews financial disclosure reports, and offers ethics training and counseling services to CDC/ATSDR employees; and (18) conducts demographic analysis of the CDC/ATSDR work force and publishes results in management reports.

Ethics and Compliance Activity (CAJQ12). (1) Oversees the CDC/ATSDR ethics and compliance program to ensure that processes and procedures are in place to ensure compliance with government-wide ethics statutes, regulations, and standards; (2) identifies and corrects weaknesses in policy, training, and monitoring to prevent CDC/ATSDR non-compliance of HHS supplemental ethics regulations; (3) serves as a liaison between the Office of Government Ethics and HHS on ethics matters; (4) applies standards of conduct regulations; (5) reviews financial disclosure reports for potential conflicts of interest; (6) provides continuing ethics training and counseling services; and (7) reviews and approve ethics-related requests for employees.

Commissioned Corps Activity (CAJQ14). (1) Serves as the primary contact for CDC/ATSDR management and employees in obtaining the full range of personnel assistance and management services for Commissioned Corps personnel; (2) provides leadership, technical assistance, guidance, and consultation in benefits, entitlements, and obligations of the Commissioned Corps to commissioned officers; (3) plans, directs, and manages the Department of Defense's Defense Eligibility Enrollment Report System identification card program for all active duty officers, retirees, and eligible dependents; (4) implements and evaluates Commissioned Corps policies and systems such as salary/benefits, performance management, assignments, health benefits, training, travel, relocation, and retirement; (5) manages the CDC/ATSDR's Commissioned Corps promotion and awards programs; (6) maintains liaison and coordinates personnel services for Commissioned Corps personnel with the Office of Commissioned Corps Operations and the Office of Surgeon General; (7) coordinates the agency deployment status of commissioned officers assigned to CDC and manages the Emergency Operation Center (EOC) Commissioned Corps deployment desk during activation of the CDC EOC; and (8) establishes and maintains personnel and payroll records and files.

Operations Management Activity (CAJQ17). (1) Provides leadership, oversight, and guidance in the management and operations of HRO programs; (2) provides and oversees the delivery of HRO-wide administrative management and support services in the areas of fiscal management, personnel, travel, records management, internal controls, and other administrative services; (3) prepares annual budget formulation and budget justifications; (4) coordinates HRO requirements relating to contracts, grants, cooperative agreements, and reimbursable agreements; (5) develops and implements administrative policies, procedures, and operations, as appropriate, for HRO, and prepares special reports and studies, as required, in the administrative management areas; and (6) maintains liaison with related staff offices and other officials of CDC/ATSDR.

In- and Out-Processing Activity (CAJQ19). (1) serves as the central point of integration for employees, non-employees and affiliates (referred to in their entirety as “customer or staff”) requiring access to CDC facilities and use of systems and resources; (2) coordinates with the support of centers, institute, and offices to retrieve customer information needed for in- or out-processing (IOP) services; (3) provides customer and CIOs with clarity about expectations for in- or out-processing; (4) coordinates with applicable business service offices (BSOs) to assure the appropriate requirements have been obtained for the clearance of staff; (5) initiates feedback and follows-up with CIOs to determine customer information is prepared for final processing; (6) provides technical assistance, guidance, and consultation regarding IOP activities to customers and stakeholders; (7) establishes, maintains, and distributes records associated with the completion of the mandatory training requirements to gain physical access to CDC facilities and Information technology systems; (8) coordinates with BSOs about the issuance and activation of Smart Cards and automation assets; (9) processes customer separation requests; (10) administers and maintains exit interview survey data; (11) serves as a point of contact for BSOs and programs to integrate customer requirements upon exiting the physical facility; and (12) maintains customer records in accordance with applicable disposition requirements.

Strategic Programs Office (CAJQB). (1) Provides a broad array of strategic programs, workforce support, and development services; (2) develops and implements methodologies to measure, evaluate, and improve human capital results to ensure mission alignment; (3) assesses and evaluates the overall effectiveness and compliance of human resources programs and policies related to merit-based decision-making and compliance with laws and regulations; (4) works with the OPM, HHS, and CDC Governance Boards and agency managers to carry out human capital management planning and development activities; and (5) establishes, coordinates, develops, and monitors implementation of human capital initiatives and the agency Strategic Human Capital Management Plan.

Office of the Director (CAJQB1). (1) Provides leadership and overall direction for the Strategic Program Office (SPO); (2) develops goals and objectives, and provides leadership, policy formation, oversight, and guidance in program planning and development; (3) plans, coordinates, and develops strategic plans for the SPO; (4) develops and administers human capital and human resource management policies and procedures; (5) coordinates all program reviews; (6) provides technical assistance and consultation to the activities within the SPO; (7) establishes performance metrics and coordinates reviews to ascertain status on meeting of the metrics; and (8) coordinates, develops, and monitors implementation of human capital initiatives and the agency Strategic Human Capital Management Plan.

Workforce Planning Activity (CAJQB3). (1) Advises and facilitates strategic workforce planning and development for CDC/ATSDR; (2) supports HRO and CIO program officials in the development, implementation and evaluation of workforce plans, policies, and initiatives; (3) serves as a liaison with HHS and entities within and outside the agency to develop CDC/ATSDR's human capital management direction and strategies; (4) coordinates the development and implementation of an agency-wide strategic human capital plan; (5) identifies mission-critical occupations and associated competencies to assess potential gaps in occupations and competencies that are essential to CDC/ATSDR achieving its strategic goals; (6) reports on CDC/ATSDR's progress in meeting human capital management improvement objectives associated with HHS-wide and government-wide human capital management improvement; (7) develops and executes a strategic hiring plan to facilitate the recruitment and retention of members of under- represented groups and for closing occupational series and/or competency gaps in the workforce; (8) provides recruitment, retention, consultation and support to customers; and (9) supports CIO-specific, mission-critical work by managing various training programs designed to provide students, postgraduates, and university faculty with opportunities to participate in projects and assignments in support of CDC/ATSDR's missions.

Information Systems and Data Analytics Activity (CAJQB4). (1) Oversees all human resources information technology CDC/ATSDR systems and serves as the liaison to HHS in the development, maintenance, and support of Department-wide human resource information systems and applications; (2) manages capital planning and investment control activities related to all CDC/ATSDR developed human capital and human resources management systems and applications; (3) serves as liaison and provides support in the development and maintenance of HHS enterprise human resources systems; (4) facilitates the administration, analysis and reporting of, and provides recommendations for, business process improvements in regards to survey data or other business process reengineering efforts; (5) supports periodic reporting requirements from CDC/ATSDR, HHS, OPM, and Office of Management and Budget (OMB); (6) provides business strategy, data analytics, and reporting services; (7) performs analysis, forecasting, and modeling to interpret quantitative and qualitative data; (8) reports and evaluates organizational performance outcomes on key measures and metrics; (9) oversees the human resources governance structure and change control board activities; (10) develops strategic plans for information technology and information systems required to support human capital and human resources management information requirements; (11) coordinates HR information resource management activities with the Office of the Chief Information Officer and the related governance groups; and (12) coordinates management information systems and analyses of data for improved utilization of resources.

CDC University Office (CAJQC). (1) Provides agency-wide leadership and guidance in all functional areas related to training and career development; (2) designs, develops, implements and evaluates a comprehensive strategic human resource leadership and career training and development program for all occupational series throughout CDC; (3) develops and implements training strategies and activities that contribute to the agency's mission, goals and objectives; (4) maximizes economies of scale through systematic planning, administration, delivery, and evaluation of agency-wide training initiatives to assist CDC employees in achieving required competencies; (5) develops retraining activities for CDC managers/employees affected by organizational changes (e.g. major reorganizations, outsourcing initiatives, etc.); (6) maintains employee training records; (7) develops and validates occupational and functional competencies and develops related training plans and career maps; (8) develops and administers professional development programs; (9) administers and monitors the Training and Learning Management System for compliance with the Government Employees Training Act; (10) conducts training needs assessment of employees, provides analysis and data to correlate individual training with strategic plans; (11) develops and maintains assessment tools to identify core competency requirements for each occupational series throughout the agency; (12) provides consultation, guidance, and technical assistance to managers and employees in organizational development, career management, employee development, and training; (13) develops and delivers education and training programs to meet the identified needs of the workforce; (14) promotes, develops, and implements training needs assessment methodology to establish priorities for training interventions; (15) collaborates, as appropriate, with the CDC/OD, CIOs, HHS, OPM and other domestic and international agencies and organizations; and (16) develops and implements policies related to employee training.

Office of the Director (CAJQC1). (1) Processes timecards; (2) provides assistance with travel orders and ICAP entry; (3) manages in processing, out processing and personnel actions; (4) liaises with the Policy, Accountability, Communications, and Engagement Office (PACE) and the Strategic Business Initiatives Unit regarding policy development/revision; (5) manages implementation of policy at CDCU; (6) consults with CIOs regarding policy tracking/reporting policy compliance; (7) manages website/liaises with IT group, Listserve/CDC/Liaise with PCA; (8) develops/revises SOPs, job aids, and manages mandatory training process; (9) manages budget, distribution, monitoring, staffing/workforce plans, physical space planning/management, equipment/other resources; (10) develops and communicates vision/mission, strategic plans and goals/priorities; (11) sets office-wide processes and guidelines (telework, workflow, approval chains); (12) monitors work processes and products, approve all procurement and personnel actions; and (13) establishes key performance indicators/metrics, monitoring/analyzing/interpreting/reporting division's performance data.

Developmental Assessment, Design, and Evaluation Activity (CAJQC2). (1) Develops and validates competency models; (2) develops and validates career paths for all competency models; (3) advises CIOs and individuals on use of individual development plans (IDP/eIDP); (4) designs, administers, scores/analyzes, and interprets/reports competency assessments for CIOs, individuals, and enterprise-wide; (5) advises CIOs and individuals on best practices for assessing/identifying competency gaps/strengths and training needs; (6) designs, implements, scores/analyzes and interprets/reports developmental program evaluation methodologies within CDCU; (7) advises CIOs on the design and implementation of developmental programs; (8) advises CIOs on the design and implementation of developmental program evaluation; and (9) collects, analyzes and interprets/reports of organizational-level data (Disabled Veterans Affirmative Action and Federal Equal Opportunity Recruitment Report, certification eligibility/compliance, quarterly/annual report).

Training Administration Activity (CAJQC3). (1) Manages room reservation/specification details (for CDCU & CIOs using our space), visitor access, room setup, room signs, makes/posts schedules, receives/manages/distributes training materials; (2) processes vendor supplied training system/training orders and SharePoint entry; (3) manages Learning Portal, roster management, course communications; and (4) supports customers with phone calls, emails, CIO training request process consultation, and processes coaching requests/tracking.

Program Development Activity (CAJQC4). (1) Manages classroom/web-based/blended program design and development, vendor/internal facilitator selections, programs curriculum planning/scheduling program administration process development; (2) markets and manages participant application/enrollment process, participant selection/notification, program communications, and monitors participant attendance/participation; (3) develops/distributes program information/materials to participants, coordinates with vendors/internal facilitators regarding program requirements, and opens/facilitates the program; (4) coordinates with the Developmental Assessment, Design and Evaluation (DAD-E) Activity to establish evaluation methodology, auditing program courses, collection of evaluation data, reviews performance of program elements to inform revisions; and (5) establishes memoranda of understanding/agreement with local universities and other learning institutions, recruits and consults with potential participants of external continuous learning programs, and manages LTE process and manages NEO, mentoring and coaching programs.

Curriculum Development Activity (CAJQC5). (1) Manages classroom/web-based/blended curriculum, vendor/internal facilitator selections, curriculum/planning scheduling, program administration processes, determines courses that meet mandatory requirements, utilizes processes and requirements to provide CEs to applicable courses; (2) manages all aspects of the biennial request for quote (RFQ) process to meet CDC training requirements, to include solicitation of proposals, vendor selection, and RFQ database maintenance, conducts market research to identify vendors that supply training via traditional and alternative platforms that meet CDC needs; (3) markets and manages participants enrollment process, determines audience types, program communications, and monitors participant attendance/participation; (4) develops/distributes course information/materials to participants, coordinates with vendors/internal facilitators to ensure facility access, opening/facilitating courses; (5) coordinates with DAD-E to establish evaluation methodology, auditing courses, collection of evaluation data, reviews performance of courses to curriculum revisions; (6) forms and manages advisory councils to support curricula development; and (7) provides consultation and assistance to CIOs in selecting vendor supplied training to meet identified training needs.

Workforce Relations Office (CAJQD). (1) Provides leadership, technical assistance, guidance, and consultation on employee and labor relations, employee services and assistance, work-life programs, performance management, incentive awards, pay, overseas allowances, leave and benefits administration, on-the-job injuries and exposures to infectious diseases, debt complaints and other job-related issues; (2) develops and administers labor-management and employee relations program including: Disciplinary actions, grievances and appeals, labor negotiations, collective bargaining, management representation before third parties, and partnership activities; (3) serves as liaison with the Office of Safety, Security and Asset Management and other CDC/ATSDR staff for personnel matters relating to substance abuse and other employee assistance programs; (4) coordinates and processes garnishment, child support, and other collection actions for CDC/ATSDR employees; (5) plans, directs, coordinates, and conducts contract negotiations on behalf of agency management with labor organizations holding exclusive recognition; (6) represents management in third party proceedings involving labor and employee relations issues; (7) serves as the authority to ensure validity, consistency, and legality of employee relations matters concerning grievances (both negotiated and agency procedures), disciplinary actions, adverse actions, and resultant third party hearings; (8) plans and coordinates all programmatic activities to include preparation of disciplinary and adverse action letters and all final agency decisions in grievances and appeals; (9) provides technical advice, consultation, and training on matters of employee conduct and performance; (10) provides consultation, guidance, and technical advice to human resources specialists, managers, and employees on the development, coordination and implementation of all work-life program initiatives; (11) provides personnel services relating to on-the-job injuries and exposures to infectious diseases; (12) facilitates the development and implementation of an agency-wide strategic approach to monitoring, evaluating, aligning, and improving performance management policies and practices for all CDC performance management systems (Title 5, Title 38 Hybrid, Title 42, Senior Executive Service (SES), Senior Biomedical Research Service (SBRS), and the Commissioned Officer Effectiveness Report (COER); (13) coordinates performance management, strategic rewards and recognition programs and systems; (14) provides human resources services and assistance on domestic and international employee benefits, allowances and leave administration; (15) serves as liaison between CDC/ATSDR and the HHS payroll office resolving discrepancies with pay and leave; (16) administers the leave donor program and processes time and attendance amendments; (17) administers the federal life and health insurance programs; (18) provides policy guidance and technical advice and assistance on retirement, the Thrift Savings Plan, health/life insurance, and savings bonds; (19) furnishes advice and assistance in the processing of Office of Workers Compensation Program claims and the Voluntary Leave Donation Program; and (20) administers the Veteran's Leave Program and process the leave in the payroll system and coordinates with Technical Service Activity to update employee's record.

Office of the Director (CAJQD1). (1) Provides leadership and overall direction for the Workforce Relations Office; (2) develops goals and objectives, and provides leadership, policy formation, oversight, and guidance in program planning and development; (3) plans, coordinates, and develops strategic plans for the Workforce Relations Offices; (4) coordinates all program reviews; (5) provides technical assistance and consultation to the activities within the Workforce Relations Office; and (6) coordinates, develops, and monitors implementation of program initiatives.

Employee and Labor Relations Activity (CAJQD2). (1) Provides leadership, technical assistance, guidance, and consultation on employee and labor relations, employee services; (2) develops and administers labor-management and employee relations program including: Disciplinary actions, grievances and appeals, labor negotiations, collective bargaining, management representation before third parties, and partnership activities; (3) serves as liaison with OSSAM and other CDC/ATSDR staff for personnel matters relating to substance abuse and other employee assistance programs; (4) coordinates and processes garnishment, child support, and other collection actions for CDC/ATSDR employees; (5) plans, directs, coordinates, and conducts contract negotiations on behalf of agency management with labor organizations holding exclusive recognition; (6) represents management in third party proceedings involving labor and employee relations issues; (7) serves as the authority to ensure validity, consistency, and legality of employee relations matters concerning grievances (both negotiated and agency procedures), disciplinary actions, adverse actions, and resultant third party hearings; (8) plans and coordinates all programmatic activities to include preparation of disciplinary and adverse action letters and all final agency decisions in grievances and appeals; (9) provides technical advice, consultation, and training on matters of employee conduct and performance; (10) provides consultation, guidance, and technical advice to human resources specialists, managers, and employees on the development; (12) furnishes advice and assistance in the processing of the Voluntary Leave Donation Program; (13) administers Veterans Leave Program and coordinates with the Technical Services Activity for record update; and (14) provides guidance on the Family Medical Leave Act.

Employee Benefits, Payroll, and Workers Compensation Activity (CAJQD3). (1) Provides consultation, guidance, and technical advice to human resources specialists, managers, and employees on the development, coordination and implementation of all Work Life program initiatives; (2) provides personnel services relating to on-the-job injuries and exposures to infectious diseases; (3) provides human resources services and assistance on domestic and international employee benefits, overseas allowances and leave administration; (4) serves as liaison between CDC/ATSDR and the HHS payroll office resolving discrepancies with pay and leave; (5) audits payroll related discrepancies regarding leave programs and processes time and attendance amendments; (6) administers the federal life and health insurance programs; (7) provides policy guidance and technical advice and assistance on retirement, the Thrift Savings Plan, health/life insurance, and savings bonds; (8) furnishes advice and assistance in the processing of Office of Workers Compensation Program claims; (9) manages and administers the Workers Compensation Program; and (10) manages the chargeback code and return to work program.

Performance Management, Strategic Rewards, Recognitions, and Work Life Activity (CAJQD4). (1) Facilitates the development and implementation of an agency-wide strategic approach to monitoring, evaluating, aligning, and improving performance management policies and practices for all CDC/ATSDR performance management systems (Title 5, Title 38 Hybrid, Title 42, SES, SBRS, and the COER); (2) coordinates performance management, strategic rewards and recognition programs and systems; (3) administers and manages the Worklife Program, lactation support, transportation subsidy, child care centers; and (4) administers the telework programs to include medical telework.

Client Services Office (CAJQE). (1) Serves as the primary contact for CDC/ATSDR management and employees in obtaining the full range of personnel assistance and management services for civil service personnel; (2) provides leadership, technical assistance, guidance, and consultation in human resource utilization, position management, classification and pay administration, recruitment, staffing, placement, reorganizations, program evaluation, and personnel records and files management; (3) maintains liaison with HHS and OPM in the area of human resources management;

(4) provides leadership in identifying the CIOs recruiting needs, and assesses, analyzes, and assists CDC/ATSDR programs in developing and executing short- and long-range hiring plans to meet these needs; (5) provides guidance to CDC/ATSDR organizations in the development of staffing plans and job analyses, evaluating/classifying position descriptions, conducting position management studies, and responding to desk audit requests; (6) processes personnel actions by determining position classification, issuing vacancy announcements, assisting in development of selection criteria, conducting examining under delegated examining authority, conducting candidate rating and ranking under CDC Merit Promotion Plan, making qualification determinations, determining pay, conducting reductions-in-force, effecting appointments and processing other actions; (7) codes and finalizes all personnel actions in the automated personnel data system, personnel action processing, data quality control/assessment, and files/records management; (8) plans, develops, implements, and evaluates systems to ensure consistently high quality human resources services; (9) establishes objectives, standards, and internal controls; (10) evaluates, analyzes, and makes recommendations to improve personnel authorities, policies, systems, operations, and procedures; (11) manages various staffing programs such as the CDC summer program, Priority Placement Program, Priority Consideration Program, the Interagency Career Transition Assistance Program, and the Career Transition Assistance Program and other special emphasis programs; (12) provides consultation, guidance, and technical advice on recruitment and special emphasis policies, practices, and procedures, including search committees, strategizes on the best approach to recruitment at specific events, and designs and develops recruitment materials for events; (13) establishes and maintains personnel records, files, and controls; (14) establishes and maintains the official personnel files system and administers personnel records storage and disposal program; (15) collaborates with personnel security in initiating suitability background checks and fingerprints for all CDC/ATSDR personnel; (16) responds to employment verification inquiries; and (17) administers the special emphasis programs and student intern/fellowship programs.

Office of the Director (CAJQE1). (1) Provides leadership and overall direction for the Client Services Office; (2) develops goals and objectives, and provides leadership, policy formation, oversight, and guidance in program planning and development; (3) plans, coordinates, and develops strategic plans for the Client Services Offices; (4) coordinates all program reviews; (5) provides technical assistance and consultation to the activities within the Client Services Office; and (6) coordinates, develops, and monitors implementation of program initiatives.

Customer Staffing Activity 1 (CAJQE2). (1) Provides leadership in identifying CIOs recruiting needs, and assesses, analyzes, and assists CDC programs in developing and executing short- and long-range hiring plans to meet these needs; (2) provides guidance to CDC organizations in the development of staffing plans and job analyses; (3) processes personnel actions by issuing vacancy announcements, assisting in development of selection criteria, conducting examinations under delegated examining authority, conducting candidate rating and ranking under CDC Merit Promotion Plan, making qualification determinations, determining pay, conducting reductions-in-force, effecting appointments and processing other actions; (4) plans, develops, implements, and evaluates systems to ensure consistently high quality human resources services; (5) establishes objectives, standards, and internal controls; (6) evaluates, analyzes, and makes recommendations to improve personnel authorities, policies, systems, operations, and procedures; (7) provides consultation, guidance, and technical advice on recruitment policies, practices, and procedures, including search committees, strategizes on the best approach to recruitment at specific events, and designs and develops recruitment materials for events; (8) provides leadership, technical assistance, guidance, and consultation in human resource utilization, position management, classification and pay administration; and (9) codes and finalizes all personnel actions in the automated personnel data system and ensures data quality control/assessment, and files/records management.

Customer Staffing Activity 2 (CAJQE3). (1) Provides leadership in identifying CIOs recruiting needs, and assesses, analyzes, and assists CDC/ATSDR programs in developing and executing short- and long-range hiring plans to meet these needs; (2) provides guidance to CDC/ATSDR organizations in the development of staffing plans and job analyses; (3) processes personnel actions by issuing vacancy announcements, assisting in development of selection criteria, conducting examinations under delegated examining authority, conducting candidate rating and ranking under CDC Merit Promotion Plan, making qualification determinations, determining pay, conducting reductions-in-force, effecting appointments and processing other actions; (4) plans, develops, implements, and evaluates systems to ensure consistently high quality human resources services; (5) establishes objectives, standards, and internal controls; (6) evaluates, analyzes, and makes recommendations to improve personnel authorities, policies, systems, operations, and procedures; (7) provides consultation, guidance, and technical advice on recruitment policies, practices, and procedures, including search committees; strategizes on the best approach to recruitment at specific events, and designs and develops recruitment materials for events; (8) provides leadership, technical assistance, guidance, and consultation in human resource utilization, position management, classification and pay administration; and (9) codes and finalizes all personnel actions in the automated personnel data system and ensures data quality control/assessment, and files/records management.

Customer Staffing Activity 3 (CAJQE4). (1) Provides leadership in identifying CIOs recruiting needs, and assesses, analyzes, and assists CDC/ATSDR programs in developing and executing short- and long-range hiring plans to meet these needs; (2) provides guidance to CDC organizations in the development of staffing plans and job analyses; (3) processes personnel actions by issuing vacancy announcements, assisting in development of selection criteria, conducting examinations under delegated examining authority, conducting candidate rating and ranking under CDC Merit Promotion Plan, making qualification determinations, determining pay, conducting reductions-in-force, effecting appointments and processing other actions; (4) plans, develops, implements, and evaluates systems to ensure consistently high quality human resources services; (5) establishes objectives, standards, and internal controls; (6) evaluates, analyzes, and makes recommendations to improve personnel authorities, policies, systems, operations, and procedures; (7) provides consultation, guidance, and technical advice on recruitment and special emphasis policies, practices, and procedures, including search committees; strategizes on the best approach to recruitment at specific events, and designs and develops recruitment materials for events; (8) provides leadership, technical assistance, guidance, and consultation in human resource utilization, position management, classification and pay administration; and (9) codes and finalizes all personnel actions in the automated personnel data system and ensures data quality control/assessment, and files/records management.

Classification and Advisory Activity (CAJQE5). (1) Provides guidance to CDC/ATSDR organizations in the development of staffing plans and job analyses, evaluating/classifying position descriptions, conducting position management studies, and responding to desk audit requests; (2) provides leadership, technical assistance, guidance, and consultation in human resource utilization, position management, classification and pay administration; (3) provides leadership in identifying CIOs classification and position management needs; (4) provides guidance to CDC organizations in the development, evaluation/classification of position descriptions; (5) conducts position management studies and responds to desk audit requests; (6) reviews reorganization proposals and provides advice on proposed staffing plans and organizational structures; (7) plans, develops, implements, and evaluates systems to ensure consistently high quality human resources services; (8) establishes objectives, standards, and internal controls; and (9) evaluates, analyzes, and makes recommendations to improve personnel authorities, policies, systems, operations, and procedures.

Technical Services Activity (CAJQE6). (1) Processes personnel actions by determining pay, conducting reductions-in-force, effecting appointments and processing other actions; (2) codes and finalizes all personnel actions in the automated personnel data system, personnel action processing, data quality control/assessment, and files/records management; (3) establishes objectives, standards, and internal controls; (4) evaluates, analyzes, and makes recommendations to improve personnel authorities, policies, systems, operations, and procedures; (5) establishes and maintains personnel records, files, and controls; (6) establishes and maintains the official personnel files system and administers personnel records storage and disposal program; (7) collaborates with Personnel Security in initiating suitability background checks and fingerprints for all CDC/ATSDR personnel; and (8) responds to employment verification inquiries.

Customer Staffing Activity 4 (CAJQE7). (1) Provides leadership in identifying the CDC/ATSDR international workforce recruiting needs, and assesses, analyzes, and assists programs in developing and executing short- and long-range hiring plans to meet these needs; (2) provides guidance to CDC/ATSDR in the development of staffing plans and job analyses; (3) processes personnel actions by issuing vacancy announcements, assisting in development of selection criteria, conducting examinations under delegated examining authority, conducting candidate rating and ranking under CDC Merit Promotion Plan, making qualification determinations, determining pay, conducting reductions-in-force, effecting appointments and processing other actions; (4) plans, develops, implements, and evaluates systems to ensure consistently high quality human resources services; (5) establishes objectives, standards, and internal controls; (6) evaluates, analyzes, and makes recommendations to improve personnel authorities, policies, systems, operations, and procedures; (7) provides consultation, guidance, and technical advice on recruitment policies, practices, and procedures, including search committees; strategizes on the best approach to recruitment at specific events, and designs and develops recruitment materials for events; (8) provides leadership, technical assistance, guidance, and consultation in human resource utilization, position management, classification and pay administration; and (9) codes and finalizes all personnel actions in the automated personnel data system and ensures data quality control/assessment, and files/records management.

Customer Staffing Activity 5 (CAJQE8). (1) Provides leadership in identifying CIOs recruiting needs, and assesses, analyzes, and assists CDC programs in developing and executing short- and long-range hiring plans to meet these needs; (2) provides guidance to CDC organizations in the development of staffing plans and job analyses; (3) processes personnel actions by issuing vacancy announcements, assisting in development of selection criteria, conducting examinations under delegated examining authority, conducting candidate rating and ranking under CDC Merit Promotion Plan, making qualification determinations, determining pay, conducting reductions-in-force, effecting appointments and processing other actions; (4) plans, develops, implements, and evaluates systems to ensure consistently high quality human resources services; (5) establishes objectives, standards, and internal controls; (6) evaluates, analyzes, and makes recommendations to improve personnel authorities, policies, systems, operations, and procedures; (7) provides consultation, guidance, and technical advice on recruitment and special emphasis policies, practices, and procedures, including search committees; strategizes on the best approach to recruitment at specific events, and designs and develops recruitment materials for events; (8) provides leadership, technical assistance, guidance, and consultation in human resource utilization, position management, classification and pay administration; and (9) codes and finalizes all personnel actions in the automated personnel data system and ensures data quality control/assessment, and files/records management.

Customer Staffing Activity 7/Special Emphasis Activity (CAJQEB). (1) Serves as the primary contact for CDC/ATSDR management and employees in obtaining the full range of personnel assistance and management services for excepted service personnel; (2) manages various staffing programs such as the CDC summer program, Priority Placement Program, Priority Consideration Program, the Interagency Career Transition Assistance Program, and the Career Transition Assistance Program, Pathways Program, Public Health Associates Program, and other special emphasis programs; (3) provides consultation, guidance, and technical advice on recruitment and special emphasis policies, practices, and procedures, including search committees, strategizes on the best approach to recruitment at specific events, and designs and develops recruitment materials for events; (4) establishes and maintains personnel records, files, and controls; (5) administers the Special Emphasis Programs and Student Intern/Fellowship Programs; (6) plans, develops, implements, and evaluates systems to ensure consistently high quality human resources services; (7) establishes objectives, standards, and internal controls; (8) evaluates, analyzes, and makes recommendations to improve personnel authorities, policies, systems, operations, and procedures; and (9) process the agency's Intergovernmental Personnel Act Employees.

Executive and Scientific Resources Office (CAJQG). (1) Provides leadership, technical assistance, guidance, and consultation in the administration of policies and procedures for appointment of individuals through the SBRS, SES, distinguished consultants, experts, consultants, and fellows under Title 42 appointment authorities; (2) provides advisory services and technical assistance on pay and compensation guidelines in accordance with OPM rules and regulations, HHS and CDC/ATSDR established pay and compensation recommendation policies, and procedures; (3) provides expert human resources advisory services and technical assistance support to the CDC/ATSDR performance review boards and compensation committees; (4) reviews actions for statutory and regulatory compliance; (5) manages strategic recruitment, relocation, and retention incentives to facilitate attraction of a quality, diverse workforce to ensure accomplishment of the CDC/ATSDR missions; (6) provides performance management training for all SES and Title 42 executives with emphasis on performance systems, timelines, supervisory and employee responsibilities; (7) provides guidance on establishing performance plans, conducting mid-year reviews, and conducting final performance rating discussions and closing performance plans; (8) develops and maintains a standard Department-wide performance management system and forms for executives; (9) conducts reviews of SES performance plans and appraisals and provide feedback; (10) prepares and submits SES performance system certification request to OPM and OMB; (11) processes performance awards and performance-based pay adjustments; (12) provides advice, assistance, templates and training workshops on performance award and Presidential Rank Award requirements; (13) manages the HHS Executive Development Program, including developmental activities, rotational assignments, and the Candidate Development Program; (14) advises on development of executive succession planning activities; and (15) provides program guidance, administration, and oversight of CDC/ATSDR immigration and visa programs.

Office of the Director (CAJQG1). (1) Provides leadership and overall direction for the Executive and Scientific Resources Office (ESRO); (2) develops goals and objectives, and provides leadership, policy formation, oversight, and guidance in program planning and development; (3) plans, coordinates, and develops strategic plans for ESRO; (4) coordinates all program reviews; (5) provides technical assistance and consultation to the activities within ESRO; and (6) coordinates, develops, and monitors implementation of program initiatives.

Senior Executive Compensation and Performance Activity (CAJQG2). (1) Provides advisory services, and technical assistance on pay and compensation guidelines in accordance with OPM rules and regulations, HHS and CDC/ATSDR established pay and compensation recommendation policies, and procedures; (2) provides expert human resources advisory services and technical assistance support to the CDC performance review boards and compensation committees; (3) reviews actions for statutory and regulatory compliance; (4) manages strategic recruitment, relocation, and retention incentives to facilitate attraction of a quality, diverse workforce to ensure accomplishment of the CDC/ATSDR missions; (5) provides performance management training for all SES and Title 42 executives with emphasis on performance systems, timelines, supervisory and employee responsibilities; (6) provides guidance on establishing performance plans, conducting mid-year reviews, and conducting final performance rating discussions and closing performance plans; (7) develops and maintains a standard Department-wide performance management system and forms for executives; (8) conducts reviews of SES performance plans and appraisals and provides feedback; (9) prepares and submits SES performance system certification request to OPM and OMB; (10) processes performance awards and performance-based pay adjustments; (11) provides advice, assistance, templates and training workshops on performance award and Presidential Rank Award requirements; (12) manages the HHS Executive Development Program, including developmental activities, rotational assignments, and the Candidate Development Program; and (13) advises on development of executive succession planning activities.

Title 42 Staffing and Recruitment Activity (CAJQG3). (1) Provides leadership, technical assistance, guidance, and consultation in the administration of policies and procedures for appointment of individuals through the distinguished consultants, experts, consultants, and fellows under Title 42 appointment authorities; and (2) administers and manages the Guest Researcher and Oak Ridge Institute for Science and Education Program.

Immigration Activity (CAJQG4). (1) Provides technical guidance and visa-assistance for employment based, CDC-sponsored visas; (2) administers and manages the Exchange Visitor Program; (3) works closely with the U.S. Office of Exchange and Cultural Affairs, U.S. Citizenship and Immigration Services, U.S. Department of Homeland Security, U.S. Department of State, Office of the Secretary/DHHS, and U.S. Department of Labor) to facilitate immigration procedures; (4) reviews, processes and files H-1B, O-1, and Green Card (I-140) Petitions with the U.S. Citizenship and Immigration Services; (5) provides advisory services and guidance on employment based green card petitions in the Alien of Extraordinary Ability category; (6) issues Certificate of Eligibility for J-1 Exchange Visitor Status through the Student and Exchange Visitor Information System to non U.S. citizens seeking CDC J-1 visa sponsorship; (7) coordinates and provides consultations and guidance on Interested Government Agency Waivers; (8) provides immigration training workshops to CDC/ATSDR administrative staff; and (9) determines the appointment mechanism, legal status, and work authorizations for non U.S. citizens through the Visitors Management System.

Policy, Accountability, Communication, and Engagement Office (CAJQH). (1) Provides leadership, oversight, guidance and support for policy, human capital accountability, communication, and customer engagement activities supporting HRO and CDC/ATSDR; (2) develops, administers and monitors the implementation of human capital and human resources management policies and operational procedures as directed by OPM, HHS, CDC/ATSDR or other pertinent federal agencies to ensure consistent application across CDC/ATSDR; (3) maintains liaison with HHS and OPM on human resources management, policy, compliance and execution of the Human Capital Assessment and Accountability Framework; (4) conducts organizational assessments to determine compliance with human capital policies, guidance, regulatory and statutory requirements of federal human capital and resource management programs and initiatives; and (5) provides issues management and resolution support to HRO as well as internal and external customers.

Office of the Director (CAJQH1). (1) Provides leadership and overall direction for the Policy, Accountability, Communication, and Engagement Office (PACE); (2) develops goals and objectives, and provides leadership, policy formation, oversight, and guidance in program planning and development; (3) plans, coordinates, and develops strategic plans for the PACE Office; (4) coordinates all program reviews; (5) provides technical assistance and consultation to the activities within PACE; and (6) coordinates, develops, and monitors implementation of PACE program initiatives and activities.

Policy Activity (CAJQH2). (1) Provides leadership, oversight, guidance and support for policy activities supporting HRO; (2) develops, administers and monitors the implementation of human capital and human resources management policies and operational procedures as directed by OPM, HHS, CDC/ATSDR or other pertinent federal agencies to ensure consistent application across CDC/ATSDR; (3) serves as the focal point for the analysis, development, technical review and clearance of controlled correspondence and non-scientific policy documents that require approval/signature from the HRO Director or other senior CDC/ATSDR leadership; and (4) responds to and coordinates requests from the OD for issues management information to ensure efficient responses to the director's priority issues.

Human Capital Effectiveness and Accountability Activity (CAJQH3). (1) Operates as an internal audit function to maintain the operational integrity of human resources and human capital areas and safeguards legal and regulatory requirements; (2) ensures that human capital goals and programs are aligned with and support CDC/ATSDR missions; (3) ensures that human capital planning is guided by a data driven, results-oriented process toward goal achievement; (4) ensures that managers and HR practitioners are held accountable for their human capital decisions; (5) assesses the effectiveness and efficiency of the HR function; (6) ensures human capital programs and policies adhere to merit system principles and other pertinent laws and regulations; (7) conducts recurring delegated examining audits and periodic human capital management reviews to verify and validate the level of compliance and performance; and (8) implements a plan for addressing issues or problems identified during accountability audits and related activities.

Communications Activity (CAJQH3). (1) Provides leadership, oversight, guidance and support for communication activities supporting HRO; (2) responds to and coordinates requests from the OD for issues management information to ensure efficient responses to the director's priority issues; (3) provides and manages a wide range of communication services in support of HRO; (4) facilitates open and transparent employee communication; (5) develops and implements internal and external public relations strategies to communicate upward and outward to customers, partners, and other stakeholders; and (6) utilizes multiple channels and methods to communicate and disseminate HR policies, announcements, procedures, information, and other relevant messages.

Customer Service Help Desk and Engagement Activity (CAJQH5). (1) Provides technical assistance, guidance, and consultation on employee and labor relations, employee services, pay, leave and benefits administration, staffing and recruitment, position classification; (2) provides issues management and resolution support to HRO as well as internal and external customers; (3) manages workload assessment and customer based training; (4) monitors customer satisfaction; (5) tracks and assess key performance indicators and other reporting requirements; and (6) administers and maintains the customer service help desk.

Delete in its entirety the titles and the mission and function statements for the Office of Safety, Security and Asset Management (CAJS), and insert the following:

Office of Safety, Security, and Asset Management (CAJS). The Office of Safety, Security, and Asset Management (OSSAM) serves as the lead organizational entity for providing a safe, secure, functional, and healthy workplace environment for the Centers for Disease Control and Prevention (CDC) and the Agency for Toxic Substances and Disease Registry (ATSDR) staff while ensuring environmental stewardship and appropriate management of CDC assets.

Office of the Director (CAJS1). (1) Directs, manages, coordinates and evaluates the programs and activities of OSSAM service offices; (2) develops goals and objectives, and provides leadership, policy formulation, and guidance in program planning and development; and (3) provides advice and counsel to the CDC Director, the Chief Operating Officer, and other senior Office of the Director (OD) and Centers/Institute/Offices (CIO) officials on all OSSAM programs and activities; (4) provides quality assurance and continuous improvement by establishing a framework for process improvement associated with all OSSAM functions; conducts quality improvement audits on all OSSAM program areas of responsibility; (5) assembles technical advisory teams, as needed, to conduct audits/reviews of OSSAM program areas, (6) oversees technical programs to ensure a safe, secure, and healthy workplace while ensuring all worksite issues are properly addressed and brought to closure; (7) provides oversight and guidance to CIOs through OSSAM liaison officers who support programs as the key contact for matters related to safety, security, facilities, logistics, and sustainability; (8) manages space requests and provides recommendations to the Chief Operating Officer for approval for all CDC CIOs; (9) manages OSSAM information technology support, including system development, maintenance, design, and implementation; (10) provides administrative guidance, advice, and support to OSSAM employees; (12) provides direction, strategy, analysis, and operational support in all aspects of OSSAM's human capital management and administrative operations; (13) develops and implements internal policies and procedures, including developing related communications; (14) provides employee and labor relations support; (15) serves as the point of contact between OSSAM OD and each of the CDC Business Service Offices (BSOs); (16) provides overall budgetary support and oversight for OSSAM, including budget planning, execution, monitoring, and reporting; (17) provides oversight, guidance and approval for the procurement process OSSAM-wide; (18) provides oversight of property accountability, including appointing an OSSAM property accountability officer; (19) provides guidance and oversight related to the records management requirements and process; (20) establishes and enforces OSSAM-related travel policies; (21) provides technical and managerial direction for the development of organizational and CDC-wide policies as it relates to safety, security, and asset management to support CDC's public health science and programs; (22) participates with senior management in program planning, policy determinations, evaluations, and decisions concerning escalation points for safety, security, and asset management; (23) provides leadership, coordination, and collaboration on issues management and triaging, and ensures the process of ongoing issues identification, management, and resolution; (24) conducts policy analysis, tracking, review, and clearance as it relates to safety, security, and asset management to support CDC's public health science and programs; (25) coordinates with CDC-Washington on authorizations; (26) coordinates with the CDC Office of Financial Resources regarding budget justifications and appropriation matters; (27) manages and responds to Congressional inquiries and media requests as it relates to safety, security, and asset management to support CDC's public health science and programs; (28) serves as the point of contact for the policy analysis, technical review, and final clearance of executive correspondence and policy documents that require approval from the CDC Director, CDC leadership team, or officials; (29) leads OSSAM performance management, including the development of strategic plans, performance metrics, dashboards, quarterly program review materials, and Office of the Chief Operating Officer performance management initiatives; (30) provides OSSAM-wide communications support which includes presentations, messages, clearances, emergency notifications, and meetings; (31) ensures accurate and consistent information dissemination, including Freedom Of Information Act requests and CDC's Division of Issues Management, Analysis, and Coordination controlled correspondence; (32) ensures consistent application of CDC correspondence standards and styles; (33) provides leadership, technical assistance, and consultation in establishing best practices in internal and external business communication and implements external communication strategies to promote and protect CDC's brand (e.g., employee communications, intranet, internet and other communication platforms); (34) serves as OSSAM's community engagement arm; and (35) performs enterprise risk management for OSSAM.

Asset Management Services Office (CAJSB). The Asset Management Services Office (AMSO) provides a safe, secure, healthy, and functional workplace environment for CDC staff by ensuring that assets are managed effectively while maintaining efficient operations and logistical support, customer satisfaction, and environmental stewardship.

Office of the Director (CAJSB1). (1) Plans, directs, and coordinates the functions and activities of AMSO; (2) provides management and administrative direction for budget planning and execution, property management, and personnel management within AMSO; (3) provides leadership and strategic support to senior managers in the determination of CDC's long-term facility needs; (4) coordinates the operations of AMSO staff involved in the planning, evaluation, design, construction, and management of facilities and acquisition of property; (5) provides centralized value engineering services, policy development and coordination, and global acquisition planning for AMSO; (6) assists and advises senior CDC officials in the development, coordination, direction, and assessment of facilities and real property activities throughout CDC's facilities and operations, and assures consideration of facilities management implications in program decisions; (7) provides collaboration and centralized consolidation of division reporting requirements and other deliverables to the Department of Health and Human Services (HHS), the Office of Financial Resources (OFR), and other internal and external entities; and (8) oversees functions of the campus portfolio managers who prepare the capital and repair and improvements (R&I), CDC and HHS-level Facility Project Approval Agreements, asset business plans, campus master plans, and special studies, monitors performance indicators to identify/address portfolio deficiencies, serves on project core teams including, Historic Preservation, Green Building, International Facilities, Real Property Acquisition, Asset Management Team and Security Liaison Activities, and administers the National Environmental Policy Act.

Leased Property Management Services Activity (CAJSB12). (1) Conducts real estate activities throughout CDC, including the acquisition of leased space, and the purchase and disposal of real property for CDC nationwide, with emphasis on current and long-range planning for the utilization of existing and future real property resources; (2) performs space management (assignment and utilization) of all CDC space, both owned and leased, nationwide; (3) provides technical assistance in space planning to meet programmatic needs; (4) executes all easements for owned property, in coordination with campus liaison officers; (5) administers day-to-day management of leased facilities and ensures contract compliance by lessors; (6) provides technical assistance and prepares contract specifications for all repair and improvement projects in leased space; (7) maintains liaison with the General Services Administration regional offices; (8) performs all functions relating to leasing and/or acquisition of real property under CDC's delegation of authority for leasing, including direct lease actions; and (9) coordinates the relocation of CDC personnel within owned and leased space.

Engineering, Maintenance, and Operations Services Office (CAJSBB). The Engineering, Maintenance, and Operations Services Office (EMOSO) manages facilities engineering, engineering controls, security systems engineering, fire alarm and life safety, and monitors, operates, and maintains owned buildings, central utility plants, systems, equipment, and performs systems/building commissioning. Specifically, EMOSO: (1) Operates, maintains, repairs, and modifies CDC's Atlanta-area office buildings, laboratories, and plant facilities, and other designated CDC facilities throughout the U.S. and other geographic areas, and conducts a maintenance and repair program for CDC's program support equipment; (2) develops services for new, improved, and modified equipment to meet program needs; (3) provides technical assistance, reviews maintenance and operation programs, and recommends appropriate action for all Atlanta-area facilities and other designated CDC facilities throughout the U.S. and other geographic areas; (4) provides recommendations, priorities, and services for new, improved, or modified equipment to meet program needs; (5) provides maintenance and operation of the central energy plant including structures, utilities production and distribution systems, and equipment; (6) conducts a program of custodial services, waste disposal, incinerations, disposal of biological waste and chemical hazardous waste, and other building services at all CDC Atlanta-area facilities and other designated CDC facilities throughout the U.S. and other geographic areas; (7) provides landscape development, repair, and maintenance at all Atlanta-area facilities and other designated CDC facilities throughout the U.S. and other geographic areas; (8) provides hauling and moving services for CDC in the Atlanta-area; (9) provides an Integrated Pest Management Program to control insect and rodents for CDC in Atlanta-area facilities; (10) develops required contractual services and provides supervision for work performed; (11) establishes and maintains a computerized system for maintenance services, for stocking and ordering supplies, and replacement parts; (12) provides for pick-up and delivery of supplies and replacement parts to work sites; (13) maintains adequate stock levels of supplies and replacement parts; (14) prepares design and contract specifications, and coordinates completion of contract maintenance projects; (15) manages CDC's Energy Conservation Program for all CDC facilities; (16) reviews all construction documents for energy conservation goals and compliance with applicable CDC construction standards; (17) participates on all core teams and value engineering teams; (18) provides maintenance and inspection for fire extinguishers and fire sprinkler systems; (19) provides services for the procurement of natural gas; (20) develops and maintains a standard equipment list for all CDC facilities; (21) assists the other AMSO offices with facility-related issues, as needed; (22) provides building coordinators to interface with program personnel to keep the building and equipment functioning; (23) functions as the CDC waste and recycling services manager and (24) coordinates the commissioning of new buildings, structures, systems and components, as necessary; (25) manages the Locksmith Office; (26) maintains inventory controls and measures, and implements, installs, repairs, and re-keys all locks with emphasis on the overall physical security of CDC and its owned and leased facilities; (27) provides security recommendations to CDC programs regarding capabilities and limitations of locking devices; (28) provides combination change services to organizations equipped with cipher locking devices; and (29) coordinates with engineers and architects on CDC lock and keying requirements for new construction.

Projects and Construction Management Services Office (CAJSBC). Projects and Construction Management Services Office (PCMSO) will manage capital improvement projects and repair and improvement projects and project management and construction services: (1) Provides professional architectural/engineering capabilities, and technical and administrative project support to CDC and the national centers for renovations and improvements to CDC-owned facilities and construction of new facilities via capital improvement projects, and repair and improvement projects; (2) develops project management requirements (including determination of methods, means of project completion, and selection of resources; (3) provides critical path method scheduling support for all large capital construction projects and all repair and improvements projects; and (4) provides central cost estimating support for all large capital construction projects, all R&I projects, special projects, feasibility studies, as requested, and certain work orders, as requested.

Design Support Services Office (CAJSBE). The Design Services and Support Office (DSSO) provides (1) professional interior design services, (2) document control and records management—including computer-aided design and drafting, (3) computer-aided facilities management; (4) document and records management, architecture/engineering codes and standards management services ensuring proper configuration control; (5) manages, maintains, and archives facility plans, drawings and technical documents including interim and as-built architectural, mechanical, engineering, plumbing, and concept drawings sufficient to provide accurate sf measurements used by Centers, Institute, and Offices of CDC; (6) maintains space management records in support of work capital fund billing basis; and (7) provides these services and support to all OSSAM customers as well as other BSO customers that require facility drawings/records support in executing mission.

Occupational Health and Safety Office (CAJSC). The Occupational Health and Safety Office (OHSO) works conjointly with all CDC organizations to help create and maintain a safe environment that is free from recognized hazards for all CDC staff, contractors, and visitors; prepares CDC staff for working in hazardous conditions domestically and abroad; and maintains compliance with relevant health, safety and environmental laws and regulations.

Office of the Director (CAJSC1). (1) Provides leadership and direction for OHSO to proactively ensure safe and healthy workplaces at CDC worksites for CDC employees, contractors, and visitors, including deployed personnel; (2) serves as the principal advisor to the Director, OSSAM, with responsibility for the CDC health and safety program; (3) plans, identifies and requests required resources for OHSO; (4) directs, manages and evaluates the operations and programs of OHSO; (5) assures compliance with applicable Federal, state, and local health, safety, and environmental laws and regulations; (6) provides the tools, knowledge, and resources needed for workers to be safe and healthy and to protect the communities adjacent to CDC-owned and leased facilities; (7) promotes healthy and safe work practices to help prevent and mitigate the cause of injuries and illnesses within CDC workplaces; (8) provides advice and counsel to the CDC Director and CIO leadership, CDC safety officers, and nationally and internationally assigned CDC staff on health, safety, and environment-related matters; (9) collaborates with domestic and global partners on CDC staff health and safety issues; (10) plans, organizes and directs OHSO health communication strategies and activities; (11) collaborates with CIOs to provide safety training; (12) provides leadership and oversight to the Quality and Compliance Branch; the Industrial Hygiene and Safety Branch; and (13) supports management and operations by providing administrative and financial services.

Quality and Compliance Branch (CAJSCB). (1) Provides coordination and expertise in program planning, policy development, quality assurance, evaluation, data management, information technology, and risk management to assure compliance; (2) ensures accurate record keeping, reporting, data analysis, and trend identification to improve safety at CDC; (3) provides leadership to ensure completion, updates, and continuous improvement of all required manuals and standard operating procedures; (4) develops and maintains annual quality and safety improvement plans and assessments; (5) conducts continuous quality improvement of data collection through a data management plan which includes comprehensive systems review and improvement to support service enhancements; (6) identifies CDC and/or government policy priorities for implementation; (7) serves as a primary source of information and expertise regarding policies, activities, and issues related to safety and health; (8) develops quality improvement strategies for customer service and service enhancements that will be incorporated in OHSO program, strategic, and performance plans; and (9) provides ongoing assessments and analysis to identify continuous quality improvement to ensure all OHSO staff provide consistent and accurate information to stakeholders and CDC.

Industrial Hygiene and Safety Branch (CAJSCC). (1) Identifies, assesses, mitigates, and monitors hazards in the workplace; (2) provides leadership, expertise, and training on safety/occupational health and industrial hygiene; (3) provides occupational health and safety technical and consultative services to all (owned and leased) CDC campuses to assure compliance with Federal Occupational Health and Safety Standards, and to provide a workplace free of recognized hazards; (4) supports safety activities of domestic and global staff through the establishment of a safety and occupational health plan, the development and implementation of the risk management policy, and coordination of standard operating procedures with the CIOs; (5) conducts comprehensive safety reviews through safety surveys and audits to ensure that CDC workplaces are free from potential and identified hazards; (6) provides coordinated responses to requests that reflect OHSO policy and compliance standards; and (7) conducts health and safety surveys, accident/illness investigations, safety help desk response/investigations, ergonomic evaluations and follow-ups, employee and workplace monitoring for chemical exposures, noise, indoor air quality and other chemical and physical hazards, job hazard/job safety assessments and use of personal protective equipment, lock-out tag-out procedures, environmental audits and compliance, contractor health and safety plan review, and requested safety support services.

Worklife Wellness Office (CAJSD). The Worklife Wellness Office (WWO) provides an environment that promotes a culture that improves the health and well-being of workers by integrating effective policies, programs, and processes accessible to all staff to sustain and improve performance, increase readiness, and support healthy choices and behaviors. Specifically, WWO: (1) Provides a core set of services and resources related to health and wellness including preventive screenings, health education and campaigns, health consults, personalized evaluation, counseling, and follow-up care/referrals; (2) engages in holistic organizational wellness efforts such as benchmarking best practices, implementing or maintaining proper policy, systems, linkages, physical environment, social environment, and external partners/coalitions outreach; (3) oversees the lifestyle fitness centers; (4) directs the employee assistance program; (5) manages the vending and food services for Atlanta campuses and (6) manages the wellness educational offerings and provides resilience support to staff involved in emergency responses throughout the agency.

Security Services Office (CAJSE). The Security Services Office (SSO) serves as the lead organizational entity for providing the overall framework, direction, coordination, implementation, oversight and accountability for CDC's infrastructure protection, and personnel security program. Specifically, SSO: (1) Serves as the primary liaison for homeland security activities; (2) provides a secure work environment for CDC/ATSDR personnel, visitors and contractors; and (3) plans and implements CDC's crisis management activities which ensure a continued public health response to the nation.

Office of the Director (CAJSE1). (1) Directs, manages, coordinates and evaluates the programs and activities of SSO; (2) develops goals and objectives, and provides leadership, policy formulation and guidance in program planning and development; (3) prepares, reviews, and coordinates budgetary, informational, and programmatic documents; and (4) and serves as a liaison to local, state, and Federal law enforcement entities and security personnel within other HHS Operating Divisions.

Physical Security Operations Branch (CAJSEC). The Physical Security Operations Branch (PSOB) coordinates and implements security operations, including access control and crisis management, for the CDC Headquarters campus and directs and oversees the security guard contract for Atlanta facilities. Specifically, PSOB: (1) Provides coordination, guidance, and security operations; (2) provides campus-wide access control; (3) provides management and oversight of contract guard force and local police; (4) conducts physical security during emergency operations; (5) promotes theft prevention, provides training and conducts investigations; (6) conducts site surveys to assess all physical security activities and correct deficiencies, and implement improvements as necessary; (7) manages and operates CDC's Security Operations Center (SOC) 24 hours a day, seven days a week at the Roybal campus, and other sites as constructed; (8) coordinates nationwide security operations through the Roybal campus SOC; (9) maintains 24-hour emergency notification procedures; (10) manages and maintains the emergency alert system; (11) improves and expands video monitoring to ensure the security of all employees, visitors, contractors and the general public while at the CDC; (12) provides coordination, guidance, and security operations for all Global Communication Center events and visits; (13) manages and coordinates the security of all visitors and guests to all Atlanta-area CDC campuses; (14) provides coordination, guidance, and security operations to all facilities CDC, including all owned and leased sites; (15) provides campus-wide access control for all the Atlanta leased sites, the Chamblee and Lawrenceville campuses, Anchorage, Alaska, and Fort Collins, Colorado, and all other CDC laboratories; (16) provides management and oversight of contract guard force and local police; (17) responsible for physical security during emergency operations; (18) promotes theft prevention, provides training and conducts investigations; (19) conducts site surveys to assess all physical security activities and correct deficiencies and implement improvement as necessary; (20) manages and maintains the emergency alert system; (21) maintains 24-hour emergency notification procedures for Fort Collins, Colorado, San Juan, Puerto Rico, and Anchorage, Alaska; (22) manages and operates CDC's SOC 24 hours a day, seven days a week at Roybal, Ft. Collins, and other sites as constructed; (23) improves and expands video monitoring to ensure the security of all employees, visitors, contractors and the general public while at the CDC; (24) manages and coordinates select agent security and the CDC Safety and Security Plan; (25) manages and maintains the Intrusion Detection Automated System, including P2000; (26) provides coordination, guidance, and security operations for all CDC laboratories nationwide; and (27) performs parking administration.

Personnel Security Branch (CAJSED). (1) Conducts background investigations and personnel suitability adjudications for employment with CDC in accordance with 5 CFR 731, Executive Order 12968 and Executive Order 10450; (2) submits documentation for security clearances, and maintains an access roster in a security clearance database; (3) implements high risk investigations such as Public Trust Investigations for employees GS-13s and above who meet HHS criteria standards for employees working in Public Trust positions; (4) conducts adjudications for National Agency Check with Inquiries cases and assists HHS in adjudicating security clearance cases; (5) provides personnel security services for full time employees, guest researchers, visiting scientists, students, contract employees, fellows, and the commissioned corps; (6) conducts initial Security Education Briefing and annual Operational Security Training; (7) coordinates employee drug testing; (8) provides identification badges and cardkey access for personnel within all CDC metro Atlanta area facilities as well as some out-of-state CDC campuses; (9) enrolls individuals with a security clearance or approval in the biometric encoding system; (10) maintains hard copy records of all individuals' requests and authorizations for access control readers; and (11) manages and operates cardkey systems.

Internal Emergency Management Branch (CAJSEE). (1) Leads a comprehensive internal emergency management program that efficiently coordinates CDC resources to, first and foremost, protect lives, then to safeguard the environment and property through mitigation, preparedness training, response, continuity and recovery from all natural, man-made and technological hazards that may impact CDC facilities; (2) implements, maintains, and updates CDC's Occupant Emergency Plan/Program; (3) conducts and evaluates annual tabletop, functional, and full-scale exercises for all CDC facilities with Designated Officials and Occupant Emergency Organizations; (4) recommends future emergency management and emergency response-related programs, policies, and/or procedures; (5) provides leadership and coordination in planning and implementation for internal emergencies; and (6) provides leadership and coordination in planning and implementation for internal emergency incidents affecting the CDC facilities, including incident response and support.

Logistics and Property Management Services Office (CAJSG). (1) Develops and implements CDC-wide policies, procedures, and criteria necessary to comply with federal and departmental regulations governing inventory management; property administration; property reutilization and disposal; supply management; shipping, receiving, distribution; (2) determines, recommends, and implements procedural changes needed to maintain effective management of CDC property including but not limited to: Inventory control; property records; and property reutilization and disposal; (3) provides audits, training and technical assistance to CDC Centers/Institute/Offices on inventory management; property administration; property reutilization and disposal including medical and scientific equipment; supply management; and property receiving; (4) determines the requirement for and serves as the functional proponent for the design, test, and implementation of logistics management systems; (5) represents CDC on inter- and intra-departmental committees relevant to logistical functions; (6) serves as the CDC liaison to HHS and other federal agencies on logistical matters such as inventory management; property administration; property reutilization and disposal including chemical hazardous waste; supply management; and receiving and distribution; (7) functions as the CDC waste and recycling services manager; (8) provides medical maintenance management support for CDC's personal property; (9) provides logistics and movement planning support for CDC CIOs; (10) establishes branch goals, objectives, and priorities, and assures consistency and coordination with overall OSSAM logistical goals and objectives; (11) provides expertise for shipping activities, domestic and overseas; (12) determines, recommends, and implements procedural changes needed to maintain effective management of CDC transportation services including but not limited to: Shipping and return of CDC material and transportation of freight, and fleet management; (13) represents CDC on inter- and intra-departmental committees relevant to logistics activities; and (14) develops and implements CDC-wide policies, procedures, and criteria necessary to comply with federal and departmental regulations governing transportation and fleet management.

Public Health Intelligence Office (CAJSH). (1) Provides leadership and operational and technical support for development, and implementation of intelligence consumption activities; (2) analyzes and disseminates intelligence related to public health, medical and scientific intelligence, counterintelligence, insider threat, and global security; (3) researches, compiles, produces, and provides classified and unclassified briefings; (4) performs prepublication review of classified and sensitive information; (5) serves as the CDC liaison with U.S. intelligence community agencies; (6) provides global security oversight in coordination with U.S. government agencies, international organizations, and non-governmental organizations; (7) identifies training needs and recommends specific training objectives to be met and the methods to achieve them; (8) develops, implements, and presents sound and well-grounded training programs to prepare CDC staff members pending deployments or travel abroad; (9) performs security assessments of and technical assistance to CDC international facilities; (10) supports CDC international operational goals through membership on the Department of State Overseas Security Policy Board; (11) provides oversight of the Defensive Counterintelligence and Insider Threat program; (12) processes non-United States citizen requests for physical or logical access; (13) provides guidance over all security issues related to foreign travel matters; (14) provides policy and implementation guidance on all standards and requirements related to the processing and storing of controlled unclassified information; (15) manages and operates CDC's Sensitive Compartmented Information Facility (SCIF) and its secure communications systems; (16) maintains accreditation of CDC's SCIF; (17) manages and operates collateral-level secure facilities nationally; (18) provides policy and implementation guidance on the standards for using classified document control for CDC; (19) provides policy and implementation guidance on all standards and requirements related to the processing and storing of classified information by CDC; (20) develops and administers a physical protection plan for all national security information and material held or processed by CDC in accordance with established laws, mandates, and government-wide policies; (21) acts as Communications Security Custodian for all classified matters involving the National Security Agency; (22) maintains CDC's emergency destruction plan for classified material and equipment; (23) conducts preliminary investigations of security violations relative to the loss or compromise/suspected compromise of sensitive, classified, or crypto-logic materials or devices throughout CDC; (24) ensures proper destruction of classified documents that are no longer required; (25) conducts security inspections and audits of all national security information storage and processing areas; and (26) provides deployable unclassified and classified communication platforms to support high-level deploying staff to natural or manmade disaster areas in support of COOP plans.

Occupational Health Clinic (CAJSJ). (1) Provides occupational health services to maintain a healthy domestic and global CDC workforce through occupational health clinics and contracted health services; (2) manages CDC occupational health services to ensure CDC compliance with Occupational Health and Safety Standards and to support the occupational requirements of CDC; (3) serves as the CDC resource for routine and emergency response occupational health services; (4) prepares CDC staff to work in hazardous conditions in response to domestic and international public health threats or concerns; (5) provides medical evaluations and consultation for personal protective equipment; (6) assures the safety and health of the CDC workforce for during deployments; (7) supports deployment processes through health screenings and physical examinations, administration of vaccinations and medications, and respiratory clearance; (8) conducts and documents ongoing medical surveillance, as needed, for post-exposures or deployed staff; (9) ensures a prepared and resilient workforce; and (10) develops and maintains procedures that support the occupational health of the CDC workforce.

Robert R. Redfield,
Director, Centers for Disease Control and Prevention.

[FR Doc. 2020-25115 Filed 11-12-20; 8:45 am]

BILLING CODE 4163-18-P